FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, without revision, the Domestic Branch Application (FR 4001; OMB No. 7100-0097).

DATES: Comments must be submitted on or before December 17, 2021.

ADDRESSES: You may submit comments, identified by FR 4001, by any of the following methods:

• Agency website: https://www.federalreserve.gov/. Follow the instructions for submitting comments at https://www.federalreserve.gov/apps/foia/proposedregs.aspx.

• Email: regs.comments@federalreserve.gov. Include the OMB number in the subject line of the message.

• Fax: (202) 452-3819 or (202) 452-3102.

• Mail: Ann E. Misback, Secretary, Board of Governors of the Federal Reserve System, 20th Street and Constitution Avenue NW, Washington, DC 20551.

All public comments are available from the Board's website at https://www.federalreserve.gov/apps/foia/proposedregs.aspx as submitted, unless modified for technical reasons or to remove personally identifiable information at the commenter's request. Accordingly, comments will not be edited to remove any identifying or contact information. Public comments may also be viewed electronically or in paper in Room 146, 1709 New York Avenue NW, Washington, DC 20006, between 9:00 a.m. and 5:00 p.m. on weekdays. For security reasons, the Board requires that visitors make an appointment to inspect comments. You may do so by calling (202) 452-3684. Upon arrival, visitors will be required to present valid government-issued photo identification and to submit to security screening in order to inspect and photocopy comments.

Additionally, commenters may send a copy of their comments to the Office of Management and Budget (OMB) Desk Officer—Shagufta Ahmed—Office of Information and Regulatory Affairs, Office of Management and Budget, New Executive Office Building, Room 10235, 725 17th Street NW, Washington, DC 20503, or by fax to (202) 395-6974.

FOR FURTHER INFORMATION CONTACT: Federal Reserve Board Clearance Officer—Nuha Elmaghrabi—Office of the Chief Data Officer, Board of Governors of the Federal Reserve System, Washington, DC 20551, (202) 452-3829.

SUPPLEMENTARY INFORMATION: On June 15, 1984, OMB delegated to the Board authority under the PRA to approve and assign OMB control numbers to collections of information conducted or sponsored by the Board. In exercising this delegated authority, the Board is directed to take every reasonable step to solicit comment. In determining whether to approve a collection of information, the Board will consider all comments received from the public and other agencies.

A copy of the Paperwork Reduction Act (PRA) OMB submission, including the reporting form and instructions, supporting statement, and other documentation will be available at https://www.reginfo.gov/public/do/PRAMain, if approved. These documents will also be made available on the Board's public website at https://www.federalreserve.gov/apps/reportforms/review.aspx or may be requested from the agency clearance officer, whose name appears above.

Request for Comment on Information Collection Proposal

The Board invites public comment on the following information collection, which is being reviewed under authority delegated by the OMB under the PRA. Comments are invited on the following:

a. Whether the proposed collection of information is necessary for the proper performance of the Board's functions, including whether the information has practical utility;

b. The accuracy of the Board's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal Under OMB Delegated Authority To Extend for Three Years, Without Revision, the Following Information Collection

Report title: Domestic Branch Application.

Agency form number: FR 4001.

OMB control number: 7100-0097.

Frequency: On occasion.

Respondents: State member banks (SMBs).

Estimated number of respondents: Expedited notifications, 55; nonexpedited notifications, 169; disclosures, 224.

Estimated average hours per response: Expedited notifications, 1; nonexpedited notifications, 1.5; disclosures, 0.5.

Estimated annual burden hours: Expedited notifications, 55; nonexpedited notifications, 254; disclosures, 112.

General description of report: The Federal Reserve Act and the Board's Regulation H require an SMB to seek prior approval of the Federal Reserve System before establishing or acquiring a domestic branch. Such requests for approval must be filed as applications at the appropriate Reserve Bank for the SMB. Due to the limited information that an SMB generally has to provide for branch proposals, there is no reporting form for a domestic branch application. An SMB is required to notify the Federal Reserve by letter of its intent to establish one or more new branches and provide evidence that public notice of the proposed branch(es) has been published by the SMB in the appropriate newspaper(s). The Federal Reserve uses the information provided to fulfill its statutory obligation to review branch applications before acting on the proposals and to otherwise supervise SMBs.

Legal authorization and confidentiality: The filing requirements under the FR 4001 are authorized by section 9(3) of the Federal Reserve Act.¹ The filing requirements under the FR 4001 are required to obtain a benefit.

¹ 12 U.S.C. 321 (requiring state member banks to obtain Board approval prior to establishing a domestic branch).

The information in an SMB's domestic branch application is public. An SMB may request that portions of its application be kept confidential pursuant to exemption 4 of the Freedom of Information Act (FOIA) if they contain commercial or financial information that is both customarily and actually treated as private.² Information provided by an SMB as part of its domestic branch application may also be considered confidential under FOIA exemption 6 if the application contains personal information, the disclosure of which would “constitute a clearly unwarranted invasion of privacy,” ³ and under FOIA exemption 8 if it is obtained as part of an examination or supervision of a financial institution.⁴

² 5 U.S.C. 552(b)(4).

³ 5 U.S.C. 552(b)(6).

⁴ 5 U.S.C. 552(b)(8).

Board of Governors of the Federal Reserve System, October 12, 2021.
Michele Taylor Fennell,
Deputy Associate Secretary of the Board.

[FR Doc. 2021-22590 Filed 10-15-21; 8:45 am]

BILLING CODE 6210-01-P